DEPARTMENT OF ENERGY

Federal Energy Regulatory Commission

[Docket No. IC01-2-001 FERC Form No. 2]

Information Collection Submitted for Review and Request for Comments

February 1, 2002.

AGENCY: Federal Energy Regulatory Commission.

ACTION: Notice of submission for review by the Office of Management and Budget (OMB) and request for comments.

SUMMARY: The Federal Energy Regulatory Commission (Commission) has submitted the energy information collection listed in this notice to the Office of Management and Budget (OMB) for review under provisions of Section 3507 of the Paperwork Reduction Act of 1995 (Pub. L. No. 104-13). Any interested person may file comments on the collection of information directly with OMB and should address a copy of those comments to the Commission as explained below. The Commission received one comment from an entity who supported the continued use of this information collection. The comments were in response to an earlier Federal Register notice of September 28, 2001 (66 FR 49653). The Commission has acknowledged these comments in its submission to OMB.

DATES: Comments regarding this collection of information are best assured of having their full effect if received within 30 days of this notification.

ADDRESSES: Address comments to Office of Management and Budget, Office of Information and Regulatory Affairs, Attention: Federal Energy Regulatory Commission, Desk Officer, 725 17th Street, NW., Washington, DC 20503. The Desk Officer may also be reached at (202) 395-7318. A copy of the comments should also be sent to Federal Energy Regulatory Commission, Office of the Chief Information Officer, Attention: Mr. Michael Miller, 888 First Street NE, Washington, DC 20426.

FOR FURTHER INFORMATION CONTACT: Mr. Miller may be reached by telephone at (202) 208-1415, by fax at (202) 208-2425, and by e-mail at mike.miller@ferc.gov.

SUPPLEMENTARY INFORMATION:

Description

The energy information collection submitted to OMB for review contains:

1. Collection of Information: FERC Form 2 “Annual Report of Major Natural Gas Companies”

2. Sponsor: Federal Energy Regulatory Commission

3. Control No.: OMB No. 1902-0028. The Commission is now requesting that OMB approve a three-year extension of the current expiration date, with no proposed changes to the existing collection. There is an adjustment to the reporting burden due to an additional respondent since the Commission's last submission in 1998. In addition, the availability of Form 2 submission software for all filers for the 2001 filing year, will the Commission believes, reduce the burden as respondents will benefit from user support at the Commission and from filing the FERC Form 2 electronically through the Commission's gateway on its website. This is a mandatory information collection requirement.

4. Necessity of Collection of Information: Submission of the information is necessary to enable the Commission to carry out its responsibilities in implementing the provisions of the Natural Gas Act (NGA). Under the NGA the Commission may prescribe a system of accounts for jurisdictional companies, and after notice and hearing, may determine the accounts in which particular outlays and receipts will be entered, charged or credited. The FERC Form 2 is designed to collect financial information from “Major Natural Gas Companies''. A company is defined as a “Major Natural Gas Company” if its combined gas transported or stored exceeded 50 million dekatherms (dth) in each of the three previous calendar years. The form collects general corporate information: summary financial information, balance sheet and income statement supporting information, gas plant, operating expenses and statistical data. The information collected is used by the Commission, state regulatory agencies and others in the review of the financial condition of the regulated companies, in various rate proceedings and audit programs and in the assessment of annual charges which are necessary to recover the Commission's costs.

5. Respondent Description: The respondent universe currently comprises on average, 57 companies subject to the Commission's jurisdiction.

6. Estimated Burden: 84,360 total burden hours, 57 respondents, 1 response annually, 1,480 hours per response (average).

7. Estimated Cost Burden to Respondents: 84,360 hours ÷ 2,080 hours per year × $117,041 per year = $ 4,746,913 average cost per respondent = $83,279.

Statutory Authority: Sections 8 and 10 of the Natural Gas Act (NGA), 15 U.S.C. 717g-717i.

Linwood A. Watson, Jr.,
Deputy Secretary.

[FR Doc. 02-2973 Filed 2-6-02; 8:45 am]

BILLING CODE 6717-01-P